DEPARTMENT OF HEALTH AND HUMAN SERVICES

Administration for Children and Families

Proposed Information Collection Activity; Comment Request

Proposed Projects

Title: Mentoring Children of Prisoners Online Data Collection (OLDC)

OMB No.: 0970-0266.

Description: The Promoting Safe and Stable Families Amendments of 2001 (Pub. L. 107-133) amended Title IV-B of the Social Security Act (42 U.S.C. 629-629e) to provide funding for nonprofit agencies that recruit, screen, train, and support mentors for children with an incarcerated parent or parents. The Family and Youth Services Bureau (FYSB) within the Administration for Children and Families (ACF), United States Department of Health and Human Services, administers the Mentoring Children of Prisoners (MCP) program. The MCP program creates lasting, high quality, one-on-one relationships that provide young people with caring adult role models. Information from the Mentoring Children of Prisoners Online Data Collection is necessary for ACF's reporting and planning under the Government Performance and Results Act (GPRA), and to support evaluation requirements within GPRA. Information collected will be used for accountability monitoring, management improvement, and research. Data collection ensures that ACF knows if grantees of the MCP program are meeting the established targets (established based on research and benchmarks) recorded in the grant application as required by the GPRA, and that mentoring activities are faithful to characteristics established by research as essential to success. Data collected will also support grantees as they carry out ongoing responsibilities, maintain program service, and manage information for internal uses.

Respondents: Public, faith-based and community organizations receiving funding to implement the MCP program.

Annual Burden Estimates
Instrument | Number of respondents | Number of responses per respondent | Average burden hours per response | Total burden hours
MCP Online Data Collection | 238 | 4 | 12 | 11,424

Estimated Total Annual Burden Hours: 11,424.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: April 11, 2007.
Robert Sargis,
Reports Clearance Officer.

[FR Doc. 07-1879 Filed 4-16-07; 8:45 am]

BILLING CODE 4184-01-M